ENVIRONMENTAL PROTECTION AGENCY

[FRL-6913-7]

Proposed Settlement Agreement, Clean Air Act Citizen Suit

AGENCY: Environmental Protection Agency (EPA).

ACTION: Notice of proposed settlement agreement; request for public comment.

SUMMARY: In accordance with section 113(g) of the Clean Air Act, as amended (“Act”), 42 U.S.C. 7413(g), notice is hereby given of a proposed settlement agreement, which was filed with the United States Court of Appeals for the District of Columbia Circuit by the United States Environmental Protection Agency (“EPA”) on November 21, 2000, to address a lawsuit filed by the Sierra Club and the New York Public Interest Research Group (collectively referred to as “Sierra Club”). Sierra Club filed a petition for review pursuant to section 307(b) of the Act, 42 U.S.C. 7607(b) challenging EPA's extension of the interim approval of title V permitting programs for approximately 80 permitting authorities. Sierra Club v. EPA, No. 00-1262 (D.C. Cir.).

DATES: Written comments on the proposed settlement agreement must be received by January 8, 2001.

ADDRESSES: Written comments should be sent to Jan M. Tierney, Air and Radiation Law Office (2344), Office of General Counsel, U.S. Environmental Protection Agency, 1200 Pennsylvania Ave., NW., Washington, DC 20460. Copies of the proposed settlement agreement are available from Phyllis J. Cochran, (202) 564-5566. A copy of the proposed settlement agreement was filed with the Clerk of the United States Court of Appeals for the District of Columbia Circuit on November 21, 1999.

SUPPLEMENTARY INFORMATION: Sierra Club alleges that EPA acted contrary to law by extending the interim approval of title V permitting programs for more than 80 permitting authorities. Under title V of the CAA, EPA promulgated regulations specifying the requirements for State operating permit programs. States, or local permitting authorities to which the States delegated authority, submitted programs to EPA for approval in the early to mid 1990's. Pursuant to section 502(g) of the Act, 42 U.S.C. 7661a(g), EPA granted interim approval of a number title V permitting programs. Subsequently, EPA extended the interim approval of programs through a series of notices in the Federal Register. Most recently, on May 22, 2000, EPA took final action extending the interim approval for approximately 80 title V permitting programs and Sierra Club challenged that final action.

The settlement agreement provides that Sierra Club's challenge to EPA's final action will be stayed pending several actions by the Agency. Pursuant to the key provisions of the settlement agreement, Sierra Club may request the court to lift the stay of the litigation if EPA fails to: (A) Propose by December 15, 2000, amendments to 40 CFR 70.4(d)(2)to eliminate language that could be construed to grant EPA authority to extend further interim approval of a title V permitting program; (B) take final action by June 1, 2000, promulgating such amendments; (C) notify by December 1, 2000, each permitting authority by letter that a federal program will apply if EPA has not fully approved a revised title V permit program for the area by December 1, 2001; and (D) issue by December 1, 2000, a notice informing the public that they may submit comment identifying deficiencies with approved or interim approved title V permit programs and that EPA will respond to such comments by specified dates.

For a period of thirty (30) days following the date of publication of this notice, the Agency will receive written comments relating to the proposed settlement agreement from persons who were not named as parties or interveners to the litigation in question. EPA or the Department of Justice may withdraw or withhold consent to the proposed settlement agreement if the comments disclose facts or considerations that indicate that such consent is inappropriate, improper, inadequate, or inconsistent with the requirements of the Act. Unless EPA or the Department of Justice determine, following the comment period, that consent is inappropriate, the settlement agreement will be final.

Dated: December 1, 2000.
Anna Wolgast,
Acting General Counsel.

[FR Doc. 00-31334 Filed 12-7-00; 8:45 am]

BILLING CODE 6560-50-P